DEPARTMENT OF JUSTICE

Notice of Lodging of Consent Decree Under the Comprehensive Environmental, Response, Compensation and Liabilities Act

Pursuant to 42 U.S.C. 9622(i), notice is hereby given that on March 27, 2006, a proposed Consent Decree in United States and State of Oregon v. City of Millersburg, Civil Action No. 6:06-CV-06069-TC was lodged with the United States District Court for the District of Oregon.

The Consent Decree settles claims for reimbursement of response costs and for injunctive relief pursuant to CERCLA Sections 106 and 107, 42 U.S.C. 9606 and 9607, at a portion of the Teledyne Wah Chang Site near Millersburg, Oregon. This Consent Decree will provide for the reimbursement of $91,964.95 of past response costs, implementation of institutional controls, and access necessary to monitor those controls and to conduct any future response actions that may be necessary.

The Department of Justice will receive for a period of thirty (30) days from the date of this publication comments relating to the Consent Decree. Comments should be addressed to the Assistant Attorney General, Environment and Natural Resources Division, P.O. Box 7611, U.S. Department of Justice, Washington, DC 20044-7611, and should refer to United States and State of Oregon v. City of Millersburg, Oregon, (D. Ore.) D.J. Ref. 90-11-2-558/1.

The Consent Decree may be examined at the Office of the United States Attorney, 1000 SW., Third Ave., Suite 600, Portland, OR 97204-2902, and at U.S. EPA Region 10, 1200 Sixth Avenue, Seattle, Washington 98101. During the public comment period, the Consent Decree may also be examined on the Department of Justice Web site, http://www.usdoj.gov./enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the U.S. Treasury.

Robert E. Maher, Jr.,
Assistant Section Chief, Environmental Enforcement Section, Environment and Natural Resources Division.

[FR Doc. 06-3269 Filed 4-4-06; 8:45 am]

BILLING CODE 4410-15-M